DEPARTMENT OF ENERGY

Federal Energy Regulatory Commission

Combined Notice of Filings #1

Take notice that the Commission received the following electric rate filings:

Docket Numbers: ER11-3589-006.

Applicants: Long Island Solar Farm, LLC.

Description: Compliance filing: LISF Tariff Update Filing to be effective 4/29/2023.

Filed Date: 4/28/23.

Accession Number: 20230428-5332.

Comment Date: 5 p.m. ET 5/19/23.

Docket Numbers: ER15-1706-005.

Applicants: Newark Energy Center, LLC.

Description: Compliance filing: Informational Filing Pursuant to Schedule 2 of the PJM OATT to be effective N/A.

Filed Date: 4/28/23.

Accession Number: 20230428-5355.

Comment Date: 5 p.m. ET 5/19/23.

Docket Numbers: ER19-1507-000.

Applicants: Duke Energy Florida, LLC, Duke Energy Progress, LLC, Duke Energy Carolinas, LLC.

Description: Order Nos. 845 and 845-A Informational Report on Interconnection Study Delays Under OATT LGIP of Duke Energy Carolinas, LLC.

Filed Date: 4/28/23.

Accession Number: 20230428-5402.

Comment Date: 5 p.m. ET 5/19/23.

Docket Numbers: ER23-841-001.

Applicants: Southwest Power Pool, Inc.

Description: Tariff Amendment: Deficiency Response—Revisions to Clarify Financial Security Refund Eligibility to be effective 4/1/2023.

Filed Date: 4/28/23.

Accession Number: 20230428-5239.

Comment Date: 5 p.m. ET 5/19/23.

Docket Numbers: ER23-1120-000.

Applicants: Nevada Cogeneration Associates #1.

Description: Amendment to February 15, 2023, Nevada Cogeneration Associates #1 submits tariff filing to Application for Market Based Rate Authority.

Filed Date: 4/27/23.

Accession Number: 20230427-5103.

Comment Date: 5 p.m. ET 5/8/23.

Docket Numbers: ER23-1735-000.

Applicants: Constellation Mystic Power, LLC.

Description: Compliance filing: Compliance Filing on Complaint Order issued in Docket No. EL23-4 to be effective 4/28/2023.

Filed Date: 4/27/23.

Accession Number: 20230427-5339.

Comment Date: 5 p.m. ET 5/18/23.

Docket Numbers: ER23-1736-000.

Applicants: Big Plain Solar, LLC.

Description: Baseline eTariff Filing: Reactive Power Compensation Baseline Filing to be effective 6/30/2023.

Filed Date: 4/27/23.

Accession Number: 20230427-5342.

Comment Date: 5 p.m. ET 5/18/23.

Docket Numbers: ER23-1737-000.

Applicants: Tampa Electric Company.

Description: § 205(d) Rate Filing: Emergency Interchange Service Schedule A&B-2023 to be effective 5/1/2023.

Filed Date: 4/28/23.

Accession Number: 20230428-5001.

Comment Date: 5 p.m. ET 5/19/23.

Docket Numbers: ER23-1738-000.

Applicants: Midcontinent Independent System Operator, Inc.

Description: § 205(d) Rate Filing: 2023-04-28_SA 4033 NSP-WAPA Interconnection Agreement to be effective 12/31/9998.

Filed Date: 4/28/23.

Accession Number: 20230428-5041.

Comment Date: 5 p.m. ET 5/19/23.

Docket Numbers: ER23-1739-000.

Applicants: AM Wind Repower LLC.

Description: Compliance filing: Notice of Non-Material Change in Status and Change in Category Seller Status to be effective 4/29/2023.

Filed Date: 4/28/23.

Accession Number: 20230428-5055.

Comment Date: 5 p.m. ET 5/19/23.

Docket Numbers: ER23-1740-000.

Applicants: Brookfield Energy Marketing Inc.

Description: Compliance filing: Notice of Non-Material Change in Status and Change in Category Seller Status to be effective 4/29/2023.

Filed Date: 4/28/23.

Accession Number: 20230428-5057.

Comment Date: 5 p.m. ET 5/19/23.

Docket Numbers: ER23-1741-000.

Applicants: ISO New England Inc., The Narragansett Electric Company.

Description: § 205(d) Rate Filing: ISO New England Inc. submits tariff filing per 35.13(a)(2)(iii: Filing of Second Revised LGIA-ISONE/NEP-15-01 (Manchester Street) to be effective 1/1/2023.

Filed Date: 4/28/23.

Accession Number: 20230428-5058.

Comment Date: 5 p.m. ET 5/19/23.

Docket Numbers: ER23-1742-000.

Applicants: Brookfield Energy Marketing LP.

Description: Compliance filing: Notice of Non-Material Change in Status and Change in Category Seller Status to be effective 4/29/2023.

Filed Date: 4/28/23.

Accession Number: 20230428-5060.

Comment Date: 5 p.m. ET 5/19/23.

Docket Numbers: ER23-1743-000.

Applicants: Brookfield Renewable Energy Marketing US LLC.

Description: Compliance filing: Notice of Non-Material Change in Status and Change in Category Seller Status to be effective 4/29/2023.

Filed Date: 4/28/23.

Accession Number: 20230428-5061.

Comment Date: 5 p.m. ET 5/19/23.

Docket Numbers: ER23-1744-000.

Applicants: Brookfield Renewable Trading and Marketing LP.

Description: Compliance filing: Notice of Non-Material Change in Status and Change in Category Seller Status to be effective 4/29/2023.

Filed Date: 4/28/23.

Accession Number: 20230428-5063.

Comment Date: 5 p.m. ET 5/19/23.

Docket Numbers: ER23-1745-000.

Applicants: Imperial Valley Solar 1, LLC.

Description: Compliance filing: Notice of Non-Material Change in Status and Change in Category Seller Status to be effective 4/29/2023.

Filed Date: 4/28/23.

Accession Number: 20230428-5066.

Comment Date: 5 p.m. ET 5/19/23.

Docket Numbers: ER23-1746-000.

Applicants: Mesa Wind Power LLC.

Description: Compliance filing: Notice of Non-Material Change in Status and Change in Category Seller Status to be effective 4/29/2023.

Filed Date: 4/28/23.

Accession Number: 20230428-5069.

Comment Date: 5 p.m. ET 5/19/23.

Docket Numbers: ER23-1747-000.

Applicants: Regulus Solar, LLC.

Description: Compliance filing: Notice of Non-Material Change in Status and Change in Category Seller Status to be effective 4/29/2023.

Filed Date: 4/28/23.

Accession Number: 20230428-5073.

Comment Date: 5 p.m. ET 5/19/23.

Docket Numbers: ER23-1748-000.

Applicants: ISO New England Inc., The Narragansett Electric Company.

Description: § 205(d) Rate Filing: ISO New England Inc. submits tariff filing per 35.13(a)(2)(iii: First Revised LGIA-ISONE/NEP-22-01 (Ocean State) to be effective 1/1/2023.

Filed Date: 4/28/23.

Accession Number: 20230428-5134.

Comment Date: 5 p.m. ET 5/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2023.
Debbie-Anne A. Reese,
Deputy Secretary.

[FR Doc. 2023-09492 Filed 5-3-23; 8:45 am]

BILLING CODE 6717-01-P